FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 13064N.

Name : Archer International, Inc.

Address : 3340 A Greens Rd, Suite #300, Houston, TX 77032.

Date Revoked: November 8, 2001.

Reason: Failed to maintain a valid bond.

License Number: 3647F.

Name: Frama Forwarding Corp.

Address: 1231 NW 87th Way, Pembroke Pines, FL 33024.

Date Revoked: November 10, 2001.

Reason: Failed to maintain a valid bond.

License Number: 14323N

Name: Hefco International, Inc., dba Hefco International dba Sea Viper Shipping.

Address: 16725 Aldine Westfield, Houston, TX 77032.

Date Revoked: November 8, 2001.

Reason: Failed to maintain a valid bond.

License Number: 14646N.

Name: Mar Shipping Corp.

Address: 8456 N.W. 72nd Street, Miami, FL 33166.

Date Revoked: November 10, 2001.

Reason: Failed to maintain a valid bond.

License Number: 16400N.

Name: North American (U.K.) Limited.

Address: 7-8 Borrowdale Rd., Wokingham, Berkshire RG41 5UX, United Kingdom.

Date Revoked: November 4, 2001.

Reason: Failed to maintain a valid bond.

License Number: 3927F.

Name: S & K 2000, Inc.

Address: One Madison Street, Rutherford, NJ 07073.

Date Revoked: November 11, 2001.

Reason: Failed to maintain a valid bond.

License Number: 14356N.

Name: Zoom Logistics Corp. dba Zoom Line.

Address: 17595 Almhurst Rd., Suite #203-8, City of Industry, CA 91748.

Date Revoked: November 15, 2001.

Reason: Failed to maintain a valid bond.

Sandra L. Kusumoto,
Director, Bureau of Consumer Complaints and Licensing.

[FR Doc. 02-563 Filed 1-8-02; 8:45 am]

BILLING CODE 6730-01-P